INTERNATIONAL TRADE COMMISSION

[Investigation No. 731-TA-808 (Third Review)]

Hot-Rolled Flat-Rolled Carbon-Quality Steel Products From Russia

Determination

On the basis of the record¹ developed in the subject five-year review, the United States International Trade Commission (“Commission”) determines, pursuant to the Tariff Act of 1930 (“the Act”), that revocation of the antidumping duty order on hot-rolled flat-rolled carbon-quality steel products from Russia would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on May 2, 2016 (81 FR 26256) and determined on August 5, 2016 that it would conduct an expedited review (81 FR 58531, August 25, 2016).

The Commission made this determination pursuant to section 751(c) of the Act (19 U.S.C. 1675(c)). It completed and filed its determination in this review on September 29, 2016. The views of the Commission are contained in USITC Publication 4639 (September 2016), entitled Hot-Rolled Flat-Rolled Carbon-Quality Steel Products from Russia: Investigation No. 731-TA-808 (Third Review).

By order of the Commission.
Issued: September 29, 2016.
Lisa R. Barton,
Secretary to the Commission.

[FR Doc. 2016-23994 Filed 10-4-16; 8:45 am]

BILLING CODE 7020-02-P